DEPARTMENT OF COMMERCE

National Oceanic and Atmospheric Administration

[RTID 0648-XD159]

Research Track Assessment for Atlantic Cod

AGENCY: National Marine Fisheries Service (NMFS), National Oceanic and Atmospheric Administration (NOAA), Commerce.

ACTION: Notice of public meeting.

SUMMARY: NMFS will convene the Research Track Assessment Peer Review Meeting for the purpose of reviewing the Atlantic cod stocks western Gulf of Maine, eastern Gulf of Maine, southern New England, Georges Bank. The Research Track Assessment Peer Review is a formal scientific peer-review process for evaluating and presenting stock assessment results to managers for fish stocks in the offshore U.S. waters of the northwest Atlantic. Assessments are prepared by the research track working group and reviewed by an independent panel of independent stock assessment experts. The public is invited to attend the presentations and discussions between the review panel and the scientists who have participated in the stock assessment process.

DATES: The public portion of the Research Track Assessment Peer Review Meeting will be held from July 31, 2023-August 3, 2023. The meeting will conclude on August 3, 2023, at 4:30 p.m. Eastern Standard Time. Please see SUPPLEMENTARY INFORMATION for the daily meeting agenda.

ADDRESSES: The meeting will be held via WebEx https://noaanmfs-meets.webex.com/noaanmfs-meets/j.php?MTID=m35f7a63c1ebaa546af3e814f1a269e1d.

Meeting number (access code): 2762 857 0886.

Meeting password: PAvVKXGV333.

Phone: +1-415-527-5035 U.S. Toll.

FOR FURTHER INFORMATION CONTACT: Michele Traver, phone: 508-495-2195; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/event/atlantic-cod-2023-research-track-peer-review.

Daily Meeting Agenda—Research Track Peer Review Meeting

The agenda is subject to change; all times are approximate and may be changed at the discretion of the Peer Review Chair.

Time | Topic | Presenter(s) | Notes
Monday, July 31, 2023
12:00 p.m.-12:15 p.m | Welcome/Logistics Introductions/Agenda/Conduct of Meeting | Michele Traver, Assessment Process Lead Russ Brown, PopDy Branch Chief JJ Maguire, Panel Chair
12:15 p.m.-12:45 p.m | Introduction and Overview | Lisa Kerr (WG Chair)
12:45 p.m.-1:45 p.m | Term of Reference (TOR) #9 | Lisa Kerr/Rich McBride
1:45 p.m.-2:45 p.m | TOR #1 | Scott Large/Jamie Behan | Ecosystems.
2:45 p.m.-3:00 p.m | Break
3:00 p.m.-4:30 p.m | TOR #2 | Charles Perretti/Kathy Sosebee | Catch.
| Discussion/Summary | Review Panel
| Public Comment | Public
5:15 p.m | Adjourn
Tuesday, August 1, 2023
12:00 p.m.-12:05 p.m | Welcome/Logistics | Michele Traver, Assessment Process Lead JJ Maguire, Panel Chair
12:05 p.m.-1:45 p.m | TOR #3 | Lisa Kerr | Survey Data.
1:45 p.m.-2:45 p.m | TORs #4-6 and #8 | Charles Perretti | WGOM—Models, BRPs, Projections, and Alternative Assessment Plan.
2:45 p.m.-3:00 p.m | Break
3:00 p.m.-4:00 p.m | TORs #4-6 and #8 cont | Charles Perretti | WGOM—Models, BRPs, Projections, and Alternative Assessment Plan.
4:00 p.m.-4:30 p.m | Discussion/Summary | Review Panel
4:30 p.m.-4:45 p.m | Public Comment | Public
4:45 p.m | Adjourn
Wednesday, August 2, 2023
12:00 p.m.-12:05 p.m | Welcome/Logistics | Michele Traver, Assessment Process Lead JJ Maguire, Panel Chair
12:05 p.m.-2:00 p.m | TORs #4-6 and #8 | Amanda Hart | GB—Models, BRPs, Projections, and Alternative Assessment Plan.
2:00 p.m.-2:15 p.m | Break
2:15 p.m.-4:15 p.m | TORs #4-6 and #8 | Alex Hansell and Steve Cadrin | SNE—Models, BRPs, Projections, and Alternative Assessment Plan.
4:15 p.m.-4:45 p.m | Discussion/Summary | Review Panel
4:45 p.m.-5:00 p.m | Public Comment | Public
5:00 p.m | Adjourn
Thursday, August 3, 2023
12:00 p.m.-12:05 p.m | Welcome/Logistics | Michele Traver, Assessment Process Lead JJ Maguire, Panel Chair
12:05 p.m.-2:00 p.m | TORs #4-6 and #8 | Micah Dean | EGOM—Models, BRPs, Projections, and Alternative Assessment Plan.
2:00 p.m.-2:15 p.m | Break
2:15 p.m.-3:15 p.m. | TOR #7 | Lisa Kerr | Research Recommendations.
3:15 p.m.-4:15 p.m | Panel Wrap-up and Discussion/Summary | Review Panel
4:15 p.m.-4:30 p.m | Public Comment | Public
4:30 p.m | Adjourn

The meeting is open to the public; however, during the `Report Writing' session the public should not engage in discussion with the Peer Review Panel.

Special Accommodations

This meeting is physically accessible to people with disabilities. Special requests should be directed to Alexander Dunn, via email alexander.dunn@NOAA.gov.

Dated: July 14, 2023.
Kelly Denit,
Director, Office of Sustainable Fisheries, National Marine Fisheries Service.

[FR Doc. 2023-15364 Filed 7-19-23; 8:45 am]

BILLING CODE 3510-22-P